NUCLEAR REGULATORY COMMISSION

[NRC-2010-0354]

Withdrawal of Regulatory Guide 1.39

AGENCY: Nuclear Regulatory Commission.

ACTION: Withdrawal of a Regulatory Guide: Regulatory Guide 1.39, “Housekeeping Requirements for Water-Cooled Nuclear Power Plants,” dated September 1977.

FOR FURTHER INFORMATION CONTACT: Hector L. Rodriguez-Luccioni, Regulatory Guide Development Branch, Division of Engineering, Office of Nuclear Regulatory Research, U.S. Nuclear Regulatory Commission, Washington, DC 20555-0001, telephone: 301-251-7685 or e-mail Hector.Rodriguez-Luccioni@nrc.gov.

SUPPLEMENTARY INFORMATION:

I. Introduction

The U.S. Nuclear Regulatory Commission (NRC) is withdrawing Regulatory Guide 1.39, “Housekeeping Requirements for Water-Cooled Nuclear Power Plants,” dated September 1977.

Regulatory Guide 1.39 endorsed the ANSI Standard N45.2.3-1973, “Housekeeping During the Construction Phase of Nuclear Power Plants.” and provided a method acceptable to the NRC staff for complying with the pertinent quality assurance requirements of 10 CFR part 50, appendix B.

The current revisions of RG 1.28 and RG 1.33 adequately address the related Quality Assurance Program with the latest ANSI/ASME standard NQA-1, which conforms to the requirements of 10 CFR part 50, Appendix B, “Quality Assurance Program Criteria for Nuclear Power Plants and Fuel Reprocessing Plants.”

II. Further Information

The withdrawal of Regulatory Guide 1.39 does not alter any prior or existing licensing commitments based on its use. The guidance provided in this regulatory guide is no longer necessary. Regulatory guides may be withdrawn when their guidance no longer provides useful information, or is superseded by technological, congressional actions, or other events.

Guides are revised for a variety of reasons and the withdrawal of a regulatory guide should be thought of as the final revision of the guide. Although a regulatory guide is withdrawn, current licensees may continue to use it, and withdrawal does not affect any existing licenses or agreements. Withdrawal means that the guide should not be used for future NRC licensing activities. Changes to existing licenses would be accomplished using other regulatory products.

Regulatory guides are available for inspection or downloading through the NRC's public Web site under “Regulatory Guides” in the NRC's Electronic Reading Room at http://www.nrc.gov/reading-rm/doollectionsc-c. Regulatory guides are also available for inspection at the NRC's Public Document Room (PDR), Room O-1 F21, One White Flint North, 11555 Rockville Pike, Rockville, Maryland 20852-2738. The PDR's mailing address is US NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, November 5, 2010.
For the Nuclear Regulatory Commission.
John N. Ridgely,
Acting Chief, Regulatory Guide Development Branch, Division of Engineering, Office of Nuclear Regulatory Research.

[FR Doc. 2010-28850 Filed 11-15-10; 8:45 am]

BILLING CODE 7590-01-P